INTERNATIONAL TRADE COMMISSION

[Investigation No. 337-TA-1126]

Certain Water Filters and Components Thereof; Issuance of a General Exclusion Order and Cease and Desist Orders; Termination of the Investigation

AGENCY: U.S. International Trade Commission.

ACTION: Notice.

SUMMARY: Notice is hereby given that the U.S. International Trade Commission has issued a general exclusion order (“GEO”) denying entry of certain water filters and components thereof as well as two cease and desist orders (“CDOs”). The investigation is terminated.

FOR FURTHER INFORMATION CONTACT: Lynde Herzbach, Office of the General Counsel, U.S. International Trade Commission, 500 E Street SW, Washington, DC 20436, telephone (202) 205-3228. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted this investigation on August 1, 2018, based on a complaint, as amended, filed on behalf of Electrolux Home Products, Inc. of Charlotte, North Carolina, and KX Technologies, LLC of West Haven, Connecticut (collectively, “Complainants”). 83 FR 37514 (Aug. 1, 2018). The complaint alleges violations of section 337 of the Tariff Act of 1930, as amended, 19 U.S.C. 1337 (“section 337”) based on the importation into the United States, the sale for importation, and the sale within the United States after importation of certain water filters and components thereof by reason of infringement of certain claims of U.S. Patent Nos. 8,673,146 (“the '146 patent”), 8,137,551 (“the '551 patent”), 9,233,322 (“the '322 patent”), and 9,901,852 (“the '852 patent”). Id. The Commission's notice of investigation names eight respondents. Id. The Office of Unfair Import Investigations (“OUII”) is also a party to the investigation.

On October 3, 2018, the ALJ issued an initial determination finding certain respondents in default, specifically, Shenzen Calux Purification Technology Co., Limited (“Calux”); JiangSu Angkua Environmental Technical Co., Ltd. (“Angkua Environmental”); and Shenzhen Dakon Purification Tech Co., Ltd. (collectively, “the Defaulting Respondents”). See Order No. 9 (Oct. 3, 2018), not reviewed, Notice (Oct. 25, 2018). The remaining respondents, specifically, Ningbo Pureza Limited; HongKong Ecoaqua Co., Limited; Ecolife Technologies, Inc.; Ecopure Filter Co., Ltd.; and Crystala Filters LLC, were terminated from the investigation due to settlement. See Order Nos. 14, 15, 16, not reviewed, Notice (April 1, 2019).

On February 12, 2019, Complainants filed a motion for summary determination of violation of section 337 by the Defaulting Respondents. Complainants requested a general exclusion order (“GEO”) and cease and desist orders (“CDOs”) against all three Defaulting Respondents. On March 8, 2019, OUII filed a response supporting a finding of a violation as well as the requested remedies of a GEO and CDOs for two of the Defaulting Respondents (Calux and Angkua Environmental).

The ALJ issued the subject ID on July 11, 2019, granting the motion for summary determination and finding a violation of section 337 by the Defaulting Respondents. Specifically, the ID found that Complainants established infringement of claims 1-3, 6, 7, and 15 of the '146 patent, claim 49 of the '551 patent, claims 1-3, 7-9, and 12-15 of the '322 patent, and claims 1, 4-6, 9-11, 14-18, and 21-31 of the '852 patent with respect to each Defaulting Respondents' accused product(s) by substantial, reliable, and probative evidence. The ALJ recommended that the Commission issue a GEO and CDOs against Calux and Angkua Environmental. The ALJ also recommended setting a bond during Presidential review in the amount of 100 percent. Id. No party petitioned for review of the subject ID.

On August 28, 2019, the Commission issued a Notice stating that the Commission determined to review the ID in part and, on review, to correct an error in a citation and a typo. 84 FR 45170 (Aug. 28, 2019). The Commission's determination resulted in finding a violation of section 337. Id. The Notice also requested written submissions on remedy, the public interest, and bonding. See id.

On September 6, 2019, Complainants submitted a brief on remedy, the public interest, and bonding, requesting that the Commission issue a GEO, issue CDOs against two of the three Defaulting Respondents, and set a bond of 100 percent during the Presidential review period. On the same day, OUII also submitted a brief on remedy, the public interest, and bonding, supporting the ALJ's recommended GEO, CDOs against two of the Defaulting Respondents, and bond in the amount of 100 percent. On September 13, 2019, OUII submitted a reply to Complainants' opening brief. No other submissions were filed in response to the Notice.

The Commission finds that the statutory requirements for relief under section 337(d)(2) are met with respect to the Defaulting Respondents. See 19 U.S.C. 1337(d)(2). In addition, the Commission finds that the public interest factors enumerated in section 337(d)(1) do not preclude issuance of statutory relief. See id. at 1337(d)(1).

The Commission has determined that the appropriate remedy in this investigation is: (1) a GEO prohibiting the unlicensed entry of certain water filters and components thereof that infringe one or more of claims 1-3, 6, and 7 of the '146 patent; claim 49 of the '551 patent; claims 1-3, 7-9, and 12-15 of the '322 patent; and claims 14-18 and 21-31 of the '852 patent; and (2) CDOs against Angkua Environmental and Calux. The Commission has also determined that the bond during the period of Presidential review pursuant to 19 U.S.C. 1337(j) shall be in the amount of 100 percent of the entered value of the imported articles that are subject to the GEO and CDOs. The Commission's orders were delivered to the President and to the United States Trade Representative on the day of its issuance. The investigation is terminated.

The authority for the Commission's determination is contained in section 337 of the Tariff Act of 1930, as amended, 19 U.S.C. 1337, and in Part 210 of the Commission's Rules of Practice and Procedure, 19 CFR part 210.

By order of the Commission.
Issued: November 12, 2019.
Lisa Barton,
Secretary to the Commission.

[FR Doc. 2019-24860 Filed 11-15-19; 8:45 am]

BILLING CODE 7020-02-P